NUCLEAR REGULATORY COMMISSION

[Docket No. 030-05000]

Notice of Environmental Assessment Related to the Issuance of a License Amendment to Byproduct Material License No. 22-04589-01, for Unrestricted Release of a Former Facility for the Minnesota Department of Health, Minneapolis, MN

AGENCY: Nuclear Regulatory Commission.

ACTION: Issuance of Environmental Assessment and Finding of No Significant Impact for License Amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION: The U.S. Nuclear Regulatory Commission (NRC) is considering the issuance of an amendment to NRC Byproduct Materials License No. 22-04589-01, which is held by the Minnesota Department of Health (licensee). The amendment would authorize the unrestricted release of the licensee's former facility, located at 717 Delaware Street, SE., Minneapolis, Minnesota. The NRC has prepared an Environmental Assessment in support of this action in accordance with the requirements of 10 CFR part 51. Based on the Environmental Assessment, the NRC has determined that a Finding of No Significant Impact is appropriate. The amendment to the Minnesota Department of Health's license will be issued following the publication of this Environmental Assessment and Finding of No Significant Impact.

I. Environmental Assessment

Identification of Proposed Action

The proposed action would approve the Minnesota Department of Health's request to amend its license and release the licensee's former facility for unrestricted use in accordance with 10 CFR part 20, subpart E. The proposed action is in accordance with the Minnesota Department of Health's request to the U.S. Nuclear Regulatory Commission (NRC) to amend its NRC Byproduct Material License by letters dated December 29, 2005 (ADAMS Accession No. ML060170707), and February 1, 2006 (ADAMS Accession No. ML060330301). The Minnesota Department of Health was first licensed to use byproduct materials at its 717 Delaware Street, SE. facility on November 12, 1971. The licensee is authorized to use byproduct materials for activities involving instrument calibration and standardization, in-vitro laboratory research, and analysis of environmental samples. The licensee is or was previously authorized to possess and use microcurie or millicurie quantities of numerous byproduct materials, including hydrogen-3, carbon-14, nickel-63, strontium-90, cesium-137, europium-154, and radium-228, as well as nanocurie quantities of the source material thorium-230. In November 2005, the Minnesota Department of Public Health moved out of the facilities located at 717 Delaware Street, SE.

The licensee conducted surveys of the facility and provided this information to the NRC to demonstrate that the radiological condition of the facility located at 717 Delaware Street, SE. are consistent with radiological criteria for unrestricted use in 10 CFR part 20, subpart E. No radiological remediation activities are required to complete the proposed action.

Need for the Proposed Action

The licensee is requesting this license amendment because it has moved out of the facility at 717 Delaware Street, SE., and is conducting licensed activities at another location. The NRC is fulfilling its responsibilities under the Atomic Energy Act to make a decision on the proposed action for decommissioning that ensures that residual radioactivity is reduced to a level that is protective of the public health and safety and the environment, and allows the facility to be released for unrestricted use.

Environmental Impacts of the Proposed Action

The NRC staff reviewed the information provided and surveys performed by the licensee to demonstrate that the release of the facility located at 717 Delaware Street, SE. are consistent with the radiological criteria for unrestricted use specified in 10 CFR 20.1402. Based on its review, the staff determined that there were no radiological impacts associated with the proposed action because no radiological remediation activities were required to complete the proposed action, and that the radiological criteria for unrestricted use in § 20.1402 have been met.

Based on its review, the staff determined that the radiological environmental impacts from the proposed action for the facility at 717 Delaware Street, SE. are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action of releasing the licensee's former facility at 717 Delaware Street, SE. for unrestricted use is to take no action. Under the no-action alternative, the licensee's facility would remain under an NRC license and would not be released for unrestricted use. Denial of the license amendment request would result in no change to current conditions at the 717 Delaware Street facility. The no-action alternative is not acceptable because it is inconsistent with 10 CFR 30.36, which requires licensees who have ceased licensed activities to begin decommissioning activities or submit a decommissioning plan, which upon approval, will be used to conduct decommissioning activities. This alternative would impose an unnecessary regulatory burden in controlling access to the former facility at 717 Delaware Street, and limit potential benefits from the future use of the facility.

Conclusion

The NRC staff concluded that the proposed action is consistent with the NRC's unrestricted release criteria specified in 10 CFR 20.1402. Because the proposed action will not significantly impact the quality of the human environment, the NRC staff concludes that the proposed action is the preferred alternative.

Agencies and Persons Consulted

The NRC staff has determined that the proposed action will not affect listed species or critical habitats. Therefore, no further consultation is required under section 7 of the Endangered Species Act. Likewise, the NRC staff has determined that the proposed action is not a type of activity that has potential to cause effect on historic properties. Therefore, consultation under section 106 of the National Historic Preservation Act is not required.

Although the NRC would normally consult with the Minnesota Department of Health on this type of byproduct material licensing action within their State, because the Minnesota Department of Health is the licensee and provided the basis for this action, there was no additional consultation with the State.

II. Finding of No Significant Impact

On the basis of the EA in support of the proposed license amendment to release the site for unrestricted use, the NRC has determined that the proposed action will not have a significant effect on the quality of the human environment. Thus, the NRC has not prepared an environmental impact statement for the proposed action.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. If you do not have access to ADAMS, or if there are problems in accessing the documents located in ADAMS, contact the NRC Public Document Room (PDR) Reference staff at 1-800-397-4209, 301-415-4737, or by e-mail to pdr@nrc.gov. The documents and ADAMS accession numbers related to this notice are:

1. Norman A. Crouch, Ph.D., Minnesota Department of Health, letter to William Snell, U.S. Nuclear Regulatory Commission, December 29, 2005 (ADAMS Accession No. ML060170707).

2. Norman A. Crouch, Ph.D., Minnesota Department of Health, letter to William Snell, U.S. Nuclear Regulatory Commission, February 1, 2006 (ADAMS Accession No. ML060330301).

3. U.S. Nuclear Regulatory Commission, “Environmental Review Guidance for Licensing Actions Associated with NMSS Programs,” NUREG-1748, August 2003.

4. U.S. Nuclear Regulatory Commission, “Generic Environmental Impact Statement in Support of Rulemaking on Radiological Criteria for License Termination of NRC-Licensed Nuclear Facilities,” NUREG-1496, August 1994.

5. NRC, NUREG-1757, “Consolidated NMSS Decommissioning Guidance,” Volumes 1-3, September 2003.

Documents may also be viewed electronically on the public computers located at the NRC's PDR, O 1 F21, One White Flint North, 11555 Rockville Pike, Rockville, MD 20852. The PDR reproduction contractor will copy documents for a fee.

Dated at Lisle, Illinois, this 8th day of February 2006.
For the Nuclear Regulatory Commission.
Jamnes L. Cameron,
Chief, Decommissioning Branch, Division of Nuclear Materials Safety, Region III.

[FR Doc. 06-1510 Filed 2-16-06; 8:45 am]

BILLING CODE 7590-01-P